DEPARTMENT OF COMMERCE

Census Bureau

Proposed Information Collection; Comment Request; School District Review Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, submit written comments, on or before July 10, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Direct requests for additional information or copies of the information collection instrument(s) and instructions to Laura Waggoner, U.S. Census Bureau, 4600 Silver Hill Road, Washington, DC 20233 (or via the Internet at laura.l.waggoner@census.gov).

SUPPLEMENTARY INFORMATION:

I. Abstract

The mission of the Geography Division (GEO) within the Census Bureau is to plan, coordinate, and administer all geographic and cartographic activities needed to facilitate Census Bureau statistical programs throughout the United States and its territories. GEO manages programs that continuously update features, boundaries, addresses, and geographic entities in the Master Address File/Topologically Integrated Geographic Encoding and Referencing (MAF/TIGER) System. GEO, also, conducts research into geographic concepts, methods, and standards needed to facilitate Census Bureau data collection and dissemination programs.

The Census Bureau is requesting a revision of a currently approved collection, to cover the annotation and verification phases of the 2015-2016 School District Review Program (SDRP). The Census Bureau requests a two-year clearance and a project specific Office of Management and Budget (OMB) Control Number for SDRP. GEO, in coordination with OMB, is removing select programs from the generic Geographic Partnership Programs (GPPs) clearance to individual project specific clearance packages. A project specific clearance for SDRP will allow the Census Bureau to provide enhanced detail and ensure the two-year cycle is uninterrupted.

The National Center for Education Statistics (NCES) sponsors the SDRP, which enables the Census Bureau to create special tabulations of Decennial Census data by school district geography. The demographic data produced by the Census Bureau for the NCES and related to each school district is of vital importance for each state's allocation under Title I of the Elementary and Secondary Education Act as amended by the No Child Left Behind Act of 2001. The NCES identifies a Title I Coordinator, and the Census Bureau works with the NCES on assigning a Mapping Coordinator in each state to work with the Census Bureau to implement this work. The respondents for the SDRP are the Title I Coordinators and Mapping Coordinators from the fifty states and the District of Columbia.

II. Method of Collection

The SDRP invites respondent participation in two phases of the program: Annotation and Verification. As part of the 2015-2016 SDRP Annotation phase, the Mapping Coordinator in each state will receive a variety of materials from the Census Bureau to use in their review and update of school district boundaries, names, codes and geographic relationships. The Mapping Coordinators will use the Census Bureau's MAF/TIGER Partnership Software (MTPS) and Census supplied spatial data in digital shapefile format to identify boundary changes for their school districts. As part of the Verification phase of the SDRP, Mapping Coordinators will have the opportunity to either use the MTPS with Census Bureau supplied Verification shapefiles, or the Census Crowdsourcing Tool (CCT) to review and verify that their submitted information was correctly captured by the Census Bureau. If a respondent finds cases where the Census Bureau did not incorporate their proposed submissions correctly, the respondent can tag and comment the area of issue and that information will become available to the Census Bureau for corrections.

The Census Bureau conducts the SDRP every two years under agreement from the NCES of the U.S. Department of Education (ED). The Census Bureau invites state education officials to participate in the review and update of its national inventory of school district boundaries and district information. State education officials collaborate with local superintendents on their responses. The participants review and provide updates and corrections to the elementary, secondary, and unified school district names and Federal Local Education Agency (LEA) identification numbers, school district boundaries, and the grade ranges for which a school district is financially responsible. The participants submit updated digital spatial files back to the Census Bureau.

The Census Bureau uses the updated school district information along with the most current Census population and income data, current population estimates, and tabulations of administrative records data, to form the Census Bureau's estimates of the number of children aged five through seventeen in low-income families for each school district. These estimates of the number of children in low-income families residing within each school district are the basis of the funding allocation for each school district under Title I of the Elementary and Secondary Education Act as amended by the No Child Left Behind Act of 2001, Public Law (Pub.L.) 107-110.

III. Data

OMB Control Number: 0607-XXXX.

Form Number: Not available at this time.

Type of Review: Regular submission.

Affected Public: All fifty states and the District of Columbia.

Estimated Number of Respondents:

Annotation Phase: 51.

Verification Phase: 51.

Estimated Time per Response:

Annotation Phase: 30 hours.

Verification Phase: 10 hours.

Estimated Burden Hours:

Annotation Phase: 1,530 hours.

Verification Phase: 510 hours.

Estimated Total Burden Hours: 2040 hours.

Estimated Total Annual Cost to Public: $0.

Respondent's Obligation: Voluntary.

Census Bureau Legal Authority: Title 13 U.S.C. Section 16, 141, and 193.

NCES Legal Authority: Title I, Part A of the Elementary and Secondary Education Act.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Dated: May 5, 2015.
Glenna Mickelson,
Management Analyst, Office of the Chief Information Officer.

[FR Doc. 2015-11261 Filed 5-8-15; 8:45 am]

BILLING CODE 3510-07-P